NATIONAL TRANSPORTATION SAFETY BOARD

SES Performance Review Board

AGENCY: National Transportation Safety Board.

ACTION: Notice.

SUMMARY: Notice is hereby given of the appointment of members of the National Transportation Safety Board, Performance Review Board (PRB).

FOR FURTHER INFORMATION CONTACT: Emily T. Carroll, Chief, Human Resources Division, Office of Administration, National Transportation Safety Board, 490 L'Enfant Plaza SW., Washington, DC 20594-0001, (202)314-6233.

SUPPLEMENTARY INFORMATION: Section 4314(c)(1) through (5) of Title 5, United States Code requires each agency to establish, in accordance with regulations prescribed by the Office of Personnel Management, one or more SES Performance Review Boards. The board reviews and evaluates the initial appraisal of a senior executive's performance by the supervisor and considers recommendations to the appointing authority regarding the performance of the senior executive.

The following have been designated as members of the Performance Review Board of the National Transportation Safety Board:

The Honorable T. Bella Dinh-Zarr, Vice Chairman, National Transportation Safety Board; PRB Chair.

The Honorable Earl F. Weener; Member, National Transportation Safety Board.

Edward Benthall, Chief Financial Officer, National Transportation Safety Board.

Florence A.P. Carr, Director, Bureau of Trade Analysis, Federal Maritime Commission

John A. Cavolowsky, Director, Airspace Operations and Safety Program, National Aeronautics and Space Administration

Jerold Gidner, Tribal Liaison Officer; Office of Policy, Management, and Budget; Department of the Interior (Alternate)

Anthony P. Scardino, Chief Financial Officer, U.S. Patent and Trademark Office (Alternate)

Candi R. Bing,
Federal Register Liaison.

[FR Doc. 2015-27762 Filed 10-30-15; 8:45 am]

BILLING CODE 7533-01-P